DEPARTMENT OF THE INTERIOR

[Docket No. FWS-HQ-IA-2024-0033; FXIA16710900000-245-FF09A10000]

Conference of the Parties to the Convention on International Trade in Endangered Species of Wild Fauna and Flora (CITES); Twentieth Regular Meeting: Taxa Being Considered for Amendments to the CITES Appendices and Proposed Resolutions, Decisions, and Agenda Items Being Considered; Observer Information

Correction

In Notice document 2024-30698, appearing on pages 105074 through 105089, in the issue of Thursday, December 26, 2024, make the following correction:

On page 105075, in the first column, in the DATES section, the text “January 16, 2025” should read “January 27, 2025”.

[FR Doc. C1-2024-30698 Filed 1-3-25; 8:45 am]

BILLING CODE 0099-10-D